DEPARTMENT OF THE INTERIOR

Bureau of Land Management

[NV-930-1430-ES; N-76308]

Esmeralda County, Nevada; Notice of Realty Action: Recreation and Public Purposes (R&PP) Act Classification; Nevada

AGENCY: Bureau of Land Management.

ACTION: Recreation and Public Purposes (R&PP) Act Classification.

SUMMARY: The following public lands in Dyer, Esmeralda County, Nevada, have been examined and found suitable for classification for lease or conveyance to the Esmeralda County Parks and Recreation Department under the provisions of the Recreation and Public Purposes (R&PP) Act, as amended (43 U.S.C. 869 et seq.), and under sec. 7 of the Taylor Grazing Act, 43 U.S.C. 315 f, and E.O. 6910. The Esmeralda County Parks and Recreation Department proposes to use the land for community expansion development of the fairground and rodeo complex, recreational complex, and the lands for a public trails park.

Mount Diablo Meridian, Nevada

T. 3 S., R. 35 E.,

Sec. 9, NW¼NE¼, NW¼, SE¼SW¼, W½SW¼.

Containing 310 acres more or less.

This action is a motion by the Bureau of Land Management to make available lands identified and designated as disposal lands under the Tonopah Resource Management Plan, dated October 6, 1997, and are not needed for Federal purposes. Lease or conveyance of the lands for recreational or public purpose use is consistent with current BLM land use planning and would be in the public interest.

The lease or conveyance of the lands will be subject to the following terms, conditions, and reservations:

1. A right-of-way thereon for ditches and canals constructed by the authority of the United States, Act of August 30, 1890, 26 Stat. 391 (43 U.S.C. 945).

2. Provisions of the Recreation and Public Purposes Act and to all applicable regulations of the Secretary of the Interior.

3. All minerals shall be reserved to the United States, together with the right to prospect for, mine and remove the minerals.

4. All valid existing rights documented on the official public land records at the time of lease/patent issuance.

5. A right-of-way authorized under the Act of October 21, 1976, 90 Stat. 2776 (43 U.S.C. 1761) for powerline purposes granted to Valley Electric Association, its successor or assignees, by right-of-way No. N-55278.

6. A right-of-way authorized under the Act of October 21, 1976, 90 Stat. 2776 (43 U.S.C. 1761) for powerline purposes granted to Valley Electric Association, its successor or assignees, by right-of-way No. N-051579.

7. A right-of-way authorized under the Act of October 21, 1976, 90 Stat. 2776 (43 U.S.C. 1761) for telephone and telegraph purposes granted to Nevada Bell, its successor or assignees, by right-of-way No. N-035353. Expires June 29, 2032.

8. A right-of-way authorized for a Federal Aid Highway (sec 107) under the Act of August 27, 1958, as amended, 72 Stat. 892 (23 U.S.C. 107(D)), by right-of-way No. NVCC-0 020855 issued to the Nevada Department of Transportation.

9. Any other reservations that the authorized officer determines appropriate to ensure public access and proper management of Federal lands and interests therein.

Upon publication of this notice in the Federal Register, the lands will be segregated from all other forms of appropriation under the public land laws, including the general mining laws, except for lease or conveyance under the Recreation and Public Purposes Act and leasing under the mineral leasing laws. For a period of 45 days from the date of publication of this notice, interested persons may submit comments regarding the proposed lease/conveyance or classification of the lands to the Assistant Field Manager, Tonopah Field Office, Post Office Box 911, Tonopah, Nevada 89049-0911.

Classification Comments: Interested persons may submit comments involving the suitability of the land for community expansion of the development of the fairground and rodeo complex, recreational complex, and the lands for a public trails park. Comments on the classification are restricted to whether the land is physically suited for the proposal, whether the use will maximize the future use or uses of the land, whether the use is consistent with local planning and zoning, or if the use is consistent with State and Federal programs.

Any adverse comments will be reviewed by the State Director. In the absence of any adverse comments, the classification will become effective 60 days from the date of publication of this notice.

Dated: November 12, 2002.
William S. Fisher,
Assistant Field Manager, Tonopah.

[FR Doc. 03-596 Filed 1-10-03; 8:45 am]

BILLING CODE 4310-HC-P